FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 26, 2024.

A. Federal Reserve Bank of Kansas City (Jeffrey Imgarten, Assistant Vice President) 1 Memorial Drive, Kansas City, Missouri 64198-0001. Comments can also be sent electronically to KCApplicationComments@kc.frb.org:

1. David R. Esry, Lee's Summit, Missouri, as General Partner of the William and Marcile Reich Family Limited Partnership, Independence, Missouri, as trustee of the David Esry Family Trust, Independence, Missouri, and as co-trustee of the Esry Family Trust, Independence, Missouri; to retain voting shares of Blue Ridge Bancshares, Inc., and thereby indirectly retain voting shares of Blue Ridge Bank, both of Independence, Missouri.

In addition, the Esry Family Trust, David Esry, Marcie Esry, Sarasota, Florida, and William Esry, Independence, Missouri, as co-trustees; to join the Esry Family group, a group acting in concert, to retain voting shares of Blue Ridge Bancshares, Inc., and thereby indirectly retain voting shares of Blue Ridge Bank. William Esry, Marcie Esry, and David Esry, all individually, were each previously permitted by the Federal Reserve System to acquire control of the voting shares of Blue Ridge Bancshares, Inc.

Board of Governors of the Federal Reserve System.
Michele Taylor Fennell,
Deputy Associate Secretary of the Board.

[FR Doc. 2024-02650 Filed 2-8-24; 8:45 am]

BILLING CODE P